FEDERAL COMMUNICATIONS COMMISSION

47 CFR Part 73

[DA 06-956; MB Docket No.04-258; RM-11000; RM-11149]

Radio Broadcasting Services; Boulder Town, Levan, Mount Pleasant and Richfield, UT

AGENCY: Federal Communications Commission.

ACTION: Proposed rule, dismissal.

SUMMARY: This document dismisses as defective a petition for rulemaking filed by Micro Communications, Inc. licensee of Station KCFM(FM), Channel 244C, Levan, Utah, proposing to substitute Channel 229C for Channel 244C at Levan and modify the license for Station KCFM accordingly. To accommodate this proposal, the substitution of Channel 244C for Channel 229C at Richfield, Utah, and modification of the license of Station KCYQ(FM) was also proposed. Mid-Utah Radio, Inc., licensee of Station KCYQ opposed the proposal and filed a counterproposal requesting the allotment of Channel 231C at Boulder Town, Utah, and the reallotment of Channel 229C from Richfield to Mount Pleasant, Utah. See SUPPLEMENTARY INFORMATION, below.

ADDRESSES: Secretary, Federal Communications Commission, 445 12th Street, SW., Room TW-A325, Washington, DC 20554.

FOR FURTHER INFORMATION CONTACT: Victoria M. McCauley, Media Bureau, (202) 418-2180.

SUPPLEMENTARY INFORMATION: This is a summary of the Commission's Report and Order, MB Docket No. 04-258, adopted May 3, 2006, and released May 5, 2006. The Notice of Proposed Rule Making, 69 FR 45302 (July 29, 2004) was issued at the request of Micro Communications, Inc. Our engineering analysis confirms that the petition for rule making failed to protect the Station KCYQ license site as required by § 73.208 of the rules. At the time of filing, Channel 244C at Richfield at Station KCYQ's license site was short-spaced to both Channel 246A at Beaver, Utah and Channel 244C at Mesquite, Utah. The counterproposal filed by Micro Communications, Inc. is dismissed in part. The portion of the counterproposal that proposed the allotment of Channel 231C at Boulder Town will be proposed in a separate Notice of Proposed Rule Making. The full text of this Commission decision is available for inspection and copying during normal business hours in the Commission's Reference Center 445 Twelfth Street, SW., Washington, DC 20554. The complete text of this decision may also be purchased from the Commission's duplicating contractor, Best Copy and Printing, Inc., 445 12th Street, SW., Room CY-B402, Washington, DC, 20054, telephone 800-378-3160 or http://www.BCPIWEB.com. This document is not subject to the Congressional Review Act.

The Commission, is, therefore, not required to submit a copy of this Report and Order to GAO, pursuant to the Congressional Review Act, see 5 U.S.C. 801(a)(1)(A) because the proposed rule was dismissed.

Federal Communications Commission.
John A. Karousos,
Assistant Chief, Audio Division, Media Bureau.

[FR Doc. E6-7844 Filed 5-23-06; 8:45 am]

BILLING CODE 6712-01-P